DEPARTMENT OF ENERGY

International Energy Agency Meetings

AGENCY: Department of Energy.

ACTION: Notice of Meetings.

SUMMARY: The Industry Advisory Board (IAB) to the International Energy Agency (IEA) will meet on June 29, 2010, at the headquarters of the IEA in Paris, France, in connection with a joint meeting of the IEA's Standing Group on Emergency Questions (SEQ) and the IEA's Standing Group on the Oil Market (SOM) on June 29; and on June 30 in connection with a joint SEQ/SOM Workshop on the Release of Industry Stocks on June 30 and a meeting of the SEQ on June 30 and continuing on July 1.

DATES: June 29-July 1, 2010.

ADDRESSES: 9, rue de la Fédération, Paris, France.

FOR FURTHER INFORMATION CONTACT: Diana D. Clark, Assistant General for International and National Security Programs, Department of Energy, 1000 Independence Avenue, SW., Washington, DC 20585, 202-586-3417.

SUPPLEMENTARY INFORMATION: In accordance with section 252(c)(1)(A)(i) of the Energy Policy and Conservation Act (42 U.S.C. 6272(c)(1)(A)(i)) (EPCA), the following notice of meeting is provided:

Meetings of the Industry Advisory Board (IAB) to the International Energy Agency (IEA) will be held at the headquarters of the IEA, 9, rue de la Fédération, Paris, France, on June 29, 2010, beginning at 9:30 a.m. and continuing on June 30 at 8:30 a.m.; and on June 30, commencing at 2:30 p.m. and continuing on July 1, 2010, at 9:30 a.m. The purpose of this notice is to permit attendance by representatives of U.S. company members of the IAB at a joint meeting of the IEA's Standing Group on Emergency Questions (SEQ) and the IEA's Standing Group on the Oil Market (SOM) on June 29, which is scheduled to be held at the headquarters of the IEA commencing at 9:30 a.m., and a joint SEQ/SOM Workshop on the Release of Industry Stocks, which is scheduled to be held at the same location beginning at 9 a.m. on June 30. The IAB will also hold a preparatory meeting among company representatives at the same location at 8:30 a.m. on June 30. The agenda for this preparatory meeting is to discuss the SEQ/SOM meeting and to review the agendas of the SEQ/SOM workshop and the 130th SEQ meeting, to be held on June 30-July 1.

The agenda of the joint SEQ/SOM meeting on June 29 is under the control of the SEQ and the SOM. It is expected that the SEQ and the SOM will adopt the following agenda:

1. Adoption of the Agenda.

2. Approval of the Summary Record of the March 2010 Joint Meeting.

3. The 2011-2012 Program of Work for the SOM and SEQ.

—Priority Setting Exercise.

—Governing Board Brainstorming.

4. The Medium-Term Oil Market Report.

5. Report on the International Energy Forum.

6. Update on the Medium-Term Gas Market Report.

7. Other Business.

The agenda of the SEQ/SOM workshop on June 30 is under the control of the SEQ and the SOM. It is expected that the SEQ and the SOM will adopt the following agenda:

1. Introduction by the IEA Secretariat.

2. Introduction by the Chairman.

3. Session 1—Industry Stockholding Obligation.

—How do we assure the availability of such stocks in a crisis? How are industry emergency stocks related to minimum operating requirements?

4. Session 2—The Government Measures to Make Industry Obligatory Stockholding Available to the Market.

—What other measures are available besides lowering the obligation for industry to hold stocks? Does the lowering of the obligation need to be more focused than just a uniform reduction across all companies, for all fuels? What is the minimum duration necessary for the reduction to be effective? Is there a way to measure the effectiveness of lowering the stockholding obligation?

5. Session 3—Bilateral Stockholding and Tickets.

—Does location matter? How can stockholding ticket contracts be an effective part of a collective action? Do ticketed volumes need to be purchased/delivered to be effective, or is the cancellation of ticket contracts enough to “free up” the oil for market use?

6. Wrap-up and Conclusions.

The agenda of the SEQ meeting on June 30 is under the control of the SEQ. It is expected that the SEQ will adopt the following agenda:

1. Adoption of the Agenda.

2. Approval of the Summary Record of the 129th Meeting.

3. Status of Compliance with IEP Stockholding Commitments.

4. Emergency Response Review Program.

—Schedule of Emergency Response Reviews.

—Emergency Response Review of Greece.

—Questionnaire Response of Denmark.

—Questionnaire Response of Norway.

5. Emergency Policy for Natural Gas.

—Proposed Questionnaire on Gas Security.

—The Use of Oil Stocks During Gas Disruptions (Draft Governing Board Decision).

6. Emergency Response Exercise 5 (ERE 5).

—Report on the Data Exercise of the Exercise in Capitals.

—Update on Preparations for ERE 5.

7. Cooperation with Non-Member Countries During Supply Disruptions.

—Report from the Working Group.

8. Emergency Response Measures.

—Fuel Switching.

—Maximum Drawdown Capability of Public Stocks.

—Report on the Workshop on Industry Stocks (June 29).

—Energy Security Indicators Model.

9. Policy and Other Developments in Member Countries.

—Belgium.

—Japan.

—United States.

10. Activities with International Organizations and Non-Member Countries.

—Thailand: Emergency Response Assessment (September).

—Chile (July 7-9).

—Update on APEC Energy Working Group.

—Indonesia: Workshop June 16-17.

—1st Energy Community Workshop on Emergency Oil Stocks (Zagreb, May 27-28).

—Presentation of the NMC Web site.

11. Report from the Industry Advisory Board.

12. Documents for Information.

—Emergency Reserve Situation of IEA Member Countries on April 1, 2010.

—Base Period Final Consumption: 2Q 2009-1Q 2010.

—Updated Emergency Contacts List.

13. Other Business.

—Tentative Schedule of Meetings for 2010:

—November 16 (morning)—SOM Meeting (Possible Joint Session).

—November 16 (afternoon)—Training Session ERE 5.

—November 17-18—ERE 5.

—November 19—131st Meeting of the SEQ.

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC on June 14, 2010.
Diana D. Clark,
Assistant General Counsel for International and National Security Programs.

[FR Doc. 2010-14753 Filed 6-17-10; 8:45 am]

BILLING CODE 6450-01-P